DEPARTMENT OF COMMERCE

National Oceanic and Atmospheric Administration

[I.D. 010803B]

Permit 1233 Modification

AGENCY: National Marine Fisheries Service (NMFS), National Oceanic and Atmospheric Administration, Commerce

ACTION: Issuance of Modification 1 to Permit 1233.

SUMMARY: NMFS has issued a permit 1233 to the State of Idaho Department of Fish and Game (IDFG).

ADDRESSES: Copies of the permit may be obtained from the Hatcheries and Inland Fisheries Branch, Sustainable Fisheries Division, NMFS, 525 N.E. Oregon Street, Suite 510, Portland, OR 97232.

FOR FURTHER INFORMATION CONTACT: Herbert Pollard, Boise, Idaho, at phone number: (208) 378-5614, e-mail: Herbert.Pollard@noaa.gov.

SUPPLEMENTARY INFORMATION: The following species and evolutionarily significant units (ESUs) are covered in this notice:

Spring/summer chinook salmon (Oncorhynchus tshawytscha): threatened Snake River;

Fall chinook salmon (Oncorhynchus tshawytscha): threatened Snake River;

Sockeye salmon (Oncorhynchus nerka): endangered Snake River; and

Steelhead (Oncorhynchus mykiss): threatened Snake River.

Permits

Permit 1233 was issued to IDFG on May 26, 2000, and Modification 1 to permit 1233 was issued to IDFG on December 6, 2002. Permit 1233 authorizes IDFG annual incidental take of naturally produced and artificially propagated ESA-listed anadromous fish associated with the operation of recreational fisheries that target non-listed, hatchery-origin anadromous fish and resident game fish species. Permit 1233 expires December 31, 2004.

Permit 1233 authorizes IDFG's recreational fishing programs including the following activities: (1) Resident sport-fishing in waters which also support ESA-listed chinook and sockeye salmon under the IDFG General Fishing Regulations, including kokanee and trout fisheries in Redfish, Alturas, and Pettit Lakes; (2) chinook salmon sport-fishing in the Clearwater River, Snake River, lower Salmon River, Little Salmon River, and South Fork Salmon River under the IDFG Anadromous Salmon Fishing Regulations; and (3) summer steelhead fishing during the fall and spring seasons under the IDFG Steelhead Fishing Regulations. The permit constitutes authorization for implementation of the IDFG General Fishing Regulations, the IDFG Anadromous Salmon Fishing Regulations, and the IDFG Steelhead Fishing Regulations. Modification 1 to permit 1233 includes additional authorized locations for conducting the state's recreational chinook salmon fisheries and authorization of incidental take of steelhead resulting from the authorized recreational fisheries. When permit 1233 was issued on May 26, 2000, no take prohibitions had been established for Snake River steelhead. Anticipating that a 4(d) rule would soon be published, a provision was made to amend the permit when protective rules were published. Protective regulations for threatened Snake River steelhead under Section 4(d) of the ESA were promulgated by NMFS, effective September 8, 2000 (July 10, 2000, 65 FR 42422). Recreational fisheries are monitored in a manner that allows evaluation of the effectiveness of protective regulations and conservation strategies. Take of listed species may occur incidental to otherwise legal fishing activities or illegal actions. Measures are described in the permit to minimize such deleterious effects to the extent possible.

Modification 1 of permit 1233 authorizes take of ESA-listed Snake River Basin steelhead as a result of catch-and-release fisheries, with an associated incidental mortality of 3.2 percent of the natural origin return. The modification further authorizes take of ESA-listed Snake River spring chinook salmon of up to 2.0% of the naturally-produced return to Lower Granite Dam; this take limit applies when the return is greater than 25,000 adults, and decreases on a sliding scale for progressively smaller returns. No additional take of ESA-listed Snake River fall chinook or sockeye salmon is authorized. NMFS has determined that take levels authorized in the modified permit will not jeopardize listed salmon and steelhead nor result in the destruction or adverse modification of critical habitat where described.

NMFS' conditions in the permit will ensure that the take of ESA-listed anadromous fish will not jeopardize the continued existence of the listed species. In issuing the permits, NMFS determined that IDFG's Conservation Plan provides adequate mitigation measures to avoid, minimize, or compensate for take of ESA-listed anadromous fish.

Issuance of this permit, as required by the ESA, was based on a finding that the permit: (1) was applied for in good faith; (2) will not operate to the disadvantage of the listed species which are the subject of the permit; and (3) is consistent with the purposes and policies set forth in section 2 of the ESA. This permit was issued in accordance with, and is subject to, 50 CFR part 222, the NMFS regulations governing listed species permits.

Dated: January 24, 2003.
Phil Williams,
Chief, Endangered Species Division, Office of Protected Resources, National Marine Fisheries Service.

[FR Doc. 03-2411 Filed 1-31-03; 8:45 am]

BILLING CODE 3510-22-S